DEPARTMENT OF HEALTH AND HUMAN SERVICES

National Institutes of Health

National Eye Institute; Amended Notice of Meeting

Notice is hereby given of a change in the meeting of the National Advisory Eye Council, October 17, 2013, 8:30 a.m. to October 17, 2013, 5:00 p.m., NIH, Neuroscience Building, 6001 Executive Boulevard, Conference Room D, Rockville, MD 20852 which was published in the Federal Register on September 11, 2013, 78 FR 55751.

Due to the Government Shutdown of October 2013, the meeting has been rescheduled to October 28, 2013, 2:00 p.m. to 3:00 p.m. The meeting is closed to the public.

Dated: October 23, 2013.
Melanie Gray,
Program Analyst, Office of Federal Advisory Committee Policy.

[FR Doc. 2013-25479 Filed 10-28-13; 8:45 am]

BILLING CODE 4140-01-P